DEPARTMENT OF COMMERCE

National Oceanic and Atmospheric Administration

[I.D. 110701A]

Marine Mammals; Notice of Intent to Prepare an Environmental Assessment for Issuing a Gray Whale Subsistence Quota to the Makah Indian Tribe for the years 2003 through 2007

AGENCY: National Marine Fisheries Service (NMFS), National Oceanic and Atmospheric Administration (NOAA), Commerce.

ACTION: Notice of intent to prepare an Environmental Assessment(EA); request for written comments.

SUMMARY: NMFS announces its intention to prepare an EA, in accordance with the National Environmental Policy Act, to assess the impacts of issuing a subsistence quota for gray whales to the Makah Tribe for the years 2003 through 2007. NMFS solicits comments and information to facilitate this analysis.

DATES: Comments and information must be postmarked by January 15, 2002.

ADDRESSES: Written comments should be sent to Chief, Marine Mammal Division (F/PR2), Office of Protected Resources, National Marine Fisheries Service, 13th Floor, 1315 East-West Hwy, Silver Spring, MD 20910. Please mark the outside of the envelope with “Comments on Gray Whale Analysis.” Comments will not be accepted if submitted via e-mail or internet.

FOR FURTHER INFORMATION CONTACT: Chris Yates, 301-713-2322.

SUPPLEMENTARY INFORMATION: At its 1997 annual meeting, the International Whaling Commission (IWC) approved a quota of 620 gray whales for an aboriginal subsistence harvest for the years 1998 through 2002. The basis for the quota was a joint request by the Russian Federation (for a total of 600 whales) and the United States (for a total of 20 whales). The subsistence and ceremonial needs of the Makah Indian Tribe were the foundation of the United States’ request to the IWC. On July 12, 2001, NMFS published an EA on issuing a quota to the Makah Indian Tribe for a subsistence hunt on gray whales for the years 2001 and 2002(66 FR 37641, July 19, 2001.) The EA is posted on NMFS website at: http://www.nmfs.noaa.gov/prot_res/prot_res.html under “New Arrivals”.

The IWC’s 54th annual meeting is scheduled for May of 2002. NMFS is preparing an EA on issuance of a quota to the Makah Indian Tribe for a subsistence hunt on gray whales for the years 2003 through 2007 in the event that the IWC renews a 5-year aboriginal subsistence quota for gray whales. NMFS is evaluating the following four alternatives: Alternative 1 - Grant the Makah Tribe a quota of 5 whales per year over 5 years with restrictions that would allow a limited hunt on the gray whale summer feeding aggregation.

Alternative 2-Grant the Makah Tribe a quota of 5 whales per year over 5 years with restrictions to target the hunt on migrating whales.

Alternative 3-Grant the Makah Tribe a quota of 5 whales per year over 5 years without time or area restrictions.

Alternative 4-(No Action)-Do not grant the Makah Tribe a quota.

Information Solicited

To ensure that the review is comprehensive and based on the best available information, NMFS is soliciting information and comments from any interested party concerning the issuance of a gray whale quota of 5 whales per year over 5 years to the Makah Tribe for the years 2003 through 2007. NMFS is particularly interested in any new information on the affected environment or environmental consequences that has become available since the last analysis was completed. It is requested that data, information, and comments be accompanied by (1) supporting documentation, and (2) the name, address, and affiliation of person submitting data. Following the issuance of the draft EA NMFS will solicit additional public input.

Dated: November 16, 2001.
William T. Hogarth,
Assistant Administration for Fisheries, National Marine Fisheries Service.

[FR Doc. 01-29390 Filed 11-23-01; 8:45 am]

BILLING CODE 3510-22-S